DEPARTMENT OF HEALTH AND HUMAN SERVICES

Administration for Children and Families

Office of Child Support Enforcement; Privacy Act of 1974; Computer Matching Agreement

AGENCY: Office of Child Support Enforcement (OCSE), ACF, HHS.

ACTION: Notice of a Computer Matching Program.

SUMMARY: In accordance with the Privacy Act of 1974 (5 U.S.C. 522a), as amended, OCSE is publishing notice of a computer matching program between OCSE and state agencies administering the Unemployment Compensation (UC) program.

DATES: HHS invites interested parties to review, submit written data, comments or arguments to the agency about the matching program until January 11, 2013. As required by the Privacy Act (5 U.S.C. 552a(r)), HHS on November 29, 2012, sent a report of a Computer Matching Program to the Committee on Homeland Security and Governmental Affairs of the Senate, the House Committee on Oversight and Government Reform and the Office of Information and Regulatory Affairs of the Office of Management and Budget (OMB).

ADDRESSES: Interested parties may submit written comment on this notice by writing to Linda Deimeke, Director, Division of Federal Systems, Office of Child Support Enforcement, Administration for Children and Families, 370 L'Enfant Promenade SW., 4th Floor East, Washington, DC 20447. Comments received will be available for public inspection at this address from 9:00 a.m. to 5:00 p.m. ET, Monday through Friday.

FOR FURTHER INFORMATION CONTACT: Linda Deimeke, Director, Division of Federal Systems, Office of Child Support Enforcement, Administration for Children and Families, 370 L'Enfant Promenade SW., 4th Floor East, Washington, DC 20447, 202-401-5439.

SUPPLEMENTARY INFORMATION: The Privacy Act of 1974 (5 U.S.C. 552a), as amended, provides for certain protections for individuals applying for and receiving federal benefits. The law governs the use of computer matching by federal agencies when records in a system of records are matched with other federal, state or local government records. The Privacy Act requires agencies involved in computer matching programs to:

1. Negotiate written agreements with the other agency or agencies participating in the matching programs;

2. Provide notification to applicants and beneficiaries that their records are subject to matching;

3. Verify information produced by such matching program before reducing, making a final denial of, suspending, or terminating an individual's benefits or payments;

4. Publish notice of the computer matching program in the Federal Register;

5. Furnish reports about the matching program to Congress and OMB; and

6. Obtain the approval of the matching agreement by the Data Integrity Board of any federal agency participating in a matching program.

This matching program meets these requirements.

Dated: November 7, 2012.
Vicki Turetsky,
Commissioner, Office of Child Support Enforcement.

Notice of New Computer Matching Program

A. Participating Agencies

The participating agencies are OCSE, which is the “source agency,” and state agencies administering the UC program, which are the “non-federal agencies.”

B. Purpose of the Matching Program

The purpose of the matching program is to provide new hire and quarterly wage (QW) information from OCSE's National Directory of New Hires (NDNH) to state agencies administering UC programs for the purpose of establishing or verifying the eligibility of, or continuing compliance with statutory and regulatory requirements by, applicants for, or recipients of, UC benefits. The State Agencies administering the UC programs may also use the NDNH information for the administration of its tax compliance function.

C. Authority for Conducting the Match

The authority for conducting the matching program is contained in Section 453(j)(8) of the Social Security Act. 42 U.S.C. 653(j)(8).

D. Categories of Individuals Involved and Identification of Records Used in the Matching Program

The categories of individuals involved in the matching program are applicants for and recipients of benefits under UC programs administered by state agencies. The system of records maintained by OCSE from which records will be disclosed for the purpose of this matching program is the “OCSE National Directory of New Hires” (NDNH), No. 09-80-0381, last published in the Federal Register at 76 FR 560 on January 5, 2011. The NDNH contains new hire, QW and unemployment insurance information. The disclosure of NDNH information by OCSE to the state agencies administering UC programs is a “routine use” under this system of records. Records resulting from the matching program and which are disclosed to the state agencies administering UC programs include names, Social Security numbers, home addresses and employment information.

E. Inclusive Dates of the Matching Program

The computer matching agreement will be effective and matching activity may commence the later of the following:

(1) 30 days after this Notice is published in the Federal Register or (2) 40 days after OCSE sends a report of the matching program to the Congressional committees of jurisdiction under 5 U.S.C. 552a(o)(2)(A); and to OMB, unless OMB disapproves the agreement within the 40-day review period or grants a waiver of 10 days of the 40-day review period. The matching agreement will remain in effect for 18 months from its effective date, unless one of the parties to the agreement advises the other by written request to terminate or modify the agreement. The agreement is subject to renewal by the HHS Data Integrity Board for 12 additional months if the matching program will be conducted without any change and each party to the agreement certifies to the Board in writing that the program has been conducted in compliance with the agreement.

[FR Doc. 2012-30018 Filed 12-11-12; 8:45 am]

BILLING CODE P